ENVIRONMENTAL PROTECTION AGENCY

[FRL-9444-9]

Meeting of the Mid-Atlantic/Northeast Visibility Union Executive Board

AGENCY: Environmental Protection Agency (EPA).

ACTION: Notice of meeting.

SUMMARY: EPA is announcing the Meeting of the Mid-Atlantic/Northeast Visibility Union (MANE-VU) Executive Board. This meeting will deal with matters relative to Regional Haze, visibility improvement, and criteria pollutants within the MANE-VU region.

DATES: The meeting will be held on September 15, 2011 starting at 9 a.m. (EDT).

Location: The Equinox, 3567 Main Street, Manchester Village, Vermont 06254; 802-362-4700.

FOR FURTHER INFORMATION CONTACT: For questions regarding Meeting Specifics, Documents and Press Inquiries Contact: Kromeklia Bryant, Ozone Transport Commission (OTC), 444 North Capitol Street NW., Suite 638, Washington, DC 20001; (202) 508-3840; e-mail: ozone@otcair.org; Web site: http://www.otcair.org/manevu/.

SUPPLEMENTARY INFORMATION: MANE-VU's members include: Connecticut, Delaware, the District of Columbia, Maine, Maryland, Massachusetts, New Hampshire, New Jersey, New York, Pennsylvania, Rhode Island, Vermont, the Penobscot Indian Nation, the St. Regis Mohawk Tribe along with EPA and Federal Land Managers.

Type of Meeting: Open.

Agenda: Copies of the final agenda are available from the OTC office at (202) 508-3840; by e-mail: ozone@otcair.org or via the MANE-VU Web site at http://www.otcair.org/manevu/.

Dated: July 18, 2011.
W.C. Early,
Acting Regional Administrator, Region III.

[FR Doc. 2011-19137 Filed 7-27-11; 8:45 am]

BILLING CODE 6560-50-P